DEPARTMENT OF THE INTERIOR

Bureau of Land Management

[LLCAN06000-14300000-ET; CACA 51096]

Notice of Proposed Withdrawal and Opportunity for Public Meeting; California

AGENCY: Bureau of Land Management, Interior.

ACTION: Notice.

SUMMARY: The Assistant Secretary of the Interior for Land and Minerals Management proposes to withdraw 702.25 acres of public lands from location and entry under the United States mining laws for a period of 20 years, on behalf of the Bureau of Land Management (BLM) to protect the unique natural, scenic, cultural, and recreational values along the Sacramento River between Shasta Dam and the City of Redding. This notice temporarily segregates the lands for up to 2 years from location and entry under the United States mining laws while various studies and analyses are made to support a final decision on the withdrawal application. The lands will remain open to the mineral leasing, geothermal leasing, mineral materials, and public land laws.

DATES: Comments should be received on or before May 27, 2010.

ADDRESSES: Comments should be sent to Steve Anderson, Field Manager, Redding Field Office, Bureau of Land Management, 355 Hemsted Drive, Redding, California 96002.

FOR FURTHER INFORMATION CONTACT: Suzie Rodriguez, Supervisory Realty Specialist, Redding Field Office, BLM, 530-224-2142.

SUPPLEMENTARY INFORMATION: The applicant is the BLM at the address stated above. The petition/application requests the Assistant Secretary for Land and Minerals Management to withdraw, for a period of 20 years and subject to valid existing rights, the following described public lands from location and entry under the United States mining laws (30 U.S.C. 22 et seq.), but not the mineral leasing, geothermal leasing, mineral materials laws, or the public land laws:

Mount Diablo Meridian

T. 32 N., R. 5 W.,

Sec. 4, lot 29;

Sec. 5, lot 6;

Sec. 6, lots 14 to 17, inclusive, lots 19, and 21;

Sec. 8, lots 13 and 15;

Sec. 9, lots 4, 7, and 10;

Sec. 20, lots 10 and 14.

T. 33 N., R. 5 W.,

Sec. 21, lots 2, 3, and 4;

Sec. 22, NW¼NW¼;

Sec. 32, lots 13, 14, 16, and 21.

The areas described aggregate 702.25 acres in Shasta County.

The BLM's petition has been approved by the Assistant Secretary for Land and Minerals Management. Therefore, it constitutes a withdrawal proposal of the Assistant Secretary (43 CFR 2310.1-3(e)).

The purpose of the proposed withdrawal would be to protect the unique natural, scenic, cultural, and recreational values along the Sacramento River between Shasta Dam and the City of Redding.

The use of a right-of-way, interagency agreement, cooperative agreement or surface management under 43 CFR part 3809 regulations would not adequately constrain nondiscretionary uses that could irrevocably affect the use of the lands for recreational purposes.

No water rights would be needed to fulfill the purpose of the requested withdrawal.

A preliminary identification of mineral resources in the subject area indicates low to moderate potential for mineral development. Placer and lode gold are the only locatable minerals of interest in the area, which may have low to moderate potential for occurrence. There are no known active producing mines within the area.

For a period of 90 days from the date of publication of this notice, all persons who wish to submit comments, suggestions, or objections in connection with the proposed withdrawal may present their views in writing to the Field Manager, Redding Field Office, BLM, 355 Hemsted Drive, Redding, California 96002. Comments, including names and street addresses for respondents, will be available for public review at the BLM's Redding Field Office, during regular business hours, 8 a.m. to 4:30 p.m., Monday through Friday, except holidays. Individual respondents may request confidentiality. Before including your address, telephone number, e-mail address, or other personal identifying information in your comment, you should be aware that your entire comment—including your personal identifying information—may be publicly available at any time. While you can ask us in your comment to withhold your personal identifying information from public review, we cannot guarantee that we will be able to do so. All submissions from organization or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the Field Manager, Redding Office, BLM, 355 Hemsted Drive, Redding, California 96002, within 90 days from the date of publication of this notice. If the authorized officer determines that a public meeting will be held, a notice of time and place will be published in the Federal Register and a local newspaper at least 30 days before the scheduled date of the meeting.

The application will be processed in accordance with the regulations set forth in 43 CFR part 2300.

For a period of 2 years from February 26, 2010, the public lands will be segregated from location and entry under the United States mining laws (30 U.S.C. 22 et seq.) as specified above unless the application is denied or canceled or the withdrawal is approved prior to that date.

Licenses, permits, cooperative agreement, or discretionary land use authorizations of a temporary nature which will not significantly impact the values to be protected by the withdrawal may be allowed with the approval of the authorized officer of BLM during the segregative period.

Authority: 43 CFR 2310.3-1(a).

Dated: February 22, 2010.
Karla D. Norris
Associate Deputy State Director, Natural Resources (CA-930).

[FR Doc. 2010-3997 Filed 2-25-10; 8:45 am]

BILLING CODE 4310-40-P